DEPARTMENT OF COMMERCE

Bureau of Industry and Security

15 CFR Part 748

[Docket No. 140406409-01]

RIN 0694-AG15

Amendments to Existing Validated End-User Authorizations in the People's Republic of China: Samsung China Semiconductor Co. Ltd and Semiconductor Manufacturing International Corporation; Correction

AGENCY: Bureau of Industry and Security, Commerce.

ACTION: Correcting amendment.

SUMMARY: Bureau of Industry and Security (BIS) published a final rule in the Federal Register on May 29, 2014 (79 FR 30713), amending existing authorizations in the Export Administration Regulations (EAR) for Validated End-Users (VEUs) Samsung China Semiconductor Co. Ltd. (Samsung China) and Semiconductor Manufacturing International Corporation (SMIC) in the People's Republic of China. BIS is correcting an inadvertent typographical error in a citation included in the list of eligible items for SMIC in the May 29 final rule. BIS also makes a conforming change.

DATES: This correction is effective June 16, 2014.

FOR FURTHER INFORMATION CONTACT: Karen Nies-Vogel, Chair, End-User Review Committee, Bureau of Industry and Security, U.S. Department of Commerce, 14th Street & Pennsylvania Avenue NW., Washington, DC 20230; by telephone: (202) 482-5991, fax: (202) 482-3991, or email: ERC@bis.doc.gov.

SUPPLEMENTARY INFORMATION: Bureau of Industry and Security (BIS) published a final rule in the Federal Register on May 29, 2014 (79 FR 30713), which amended existing authorizations in the Export Administration Regulations (EAR) for Validated End-Users (VEUs) Samsung China Semiconductor Co. Ltd. (Samsung China) and Semiconductor Manufacturing International Corporation (SMIC) in the People's Republic of China. Specifically, BIS amended Supplement No. 7 to Part 748 of the EAR to change the address of the facility used by Samsung China. In addition, BIS added a facility to the list of eligible destinations and an item to the list of eligible items for SMIC. BIS is correcting an inadvertent typographical error in the second citation included in the list of eligible items for SMIC in the May 29 final rule. BIS also makes a conforming change by updating the citation in the “Federal Register Citation” column in the entry for SMIC.

List of Subjects 15 CFR Part 748

Administrative practice and procedure, Exports, Reporting and recordkeeping requirements.

Accordingly, part 748 of the EAR (15 CFR parts 730-774) is amended as follows:

PART 748—[AMENDED]

1. The authority citation for 15 CFR part 748 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 8, 2013, 78 FR 49107 (August 12, 2013).

Supplement No. 7 to Part 748—[AMENDED]

2. Supplement No. 7 to Part 748—Authorization Validated End-User (VEU): List of Validated End-Users, Respective Items Eligible for Export, Reexport and Transfer, and Eligible Destination is amended by:

a. Removing “748.15” in the list of items in the “Eligible items (By ECCN)” column for “Semiconductor Manufacturing International Corporation” and add in its place “742.15”; and

b. Adding the citation “79 FR [INSERT PAGE NUMBER], June 16, 2014” at the end of the list of citations in the “Federal Register Citation” column for “Semiconductor Manufacturing International Corporation”.

Eileen M. Albanese,
Acting Director, Office of Exporter Services.

[FR Doc. 2014-14041 Filed 6-13-14; 8:45 am]

BILLING CODE 3510-33-P